DEPARTMENT OF COMMERCE

Census Bureau

Agency Information Collection Activities; Submission to the Office of Management and Budget (OMB) for Review and Approval; Comment Request; 2020 Census Count Question Resolution Operation; Correction

AGENCY: Census Bureau, Commerce.

ACTION: Notice of information collection, request for comment; correction.

SUMMARY: The Department of Commerce, in accordance with the Paperwork Reduction Act (PRA) of 1995, invites the general public and other Federal agencies to comment on proposed, and continuing information collections, which helps us assess the impact of our information collection requirements and minimize the public's reporting burden. The Census Bureau published a document in the Federal Register on August 4, 2020, concerning a request for comments on the 2020 Census Count Question Resolution Operation (CQR). This notice contained two errors referenced within the document: One incorrect date and one misused word. The corrections are explained below.

FOR FURTHER INFORMATION CONTACT: Requests for additional information or specific questions related to collection activities should be directed to Robin A. Pennington, Decennial Census Management Division, Program Management Office, by phone 301-763-8132 or by email robin.a.pennington@census.gov.

SUPPLEMENTARY INFORMATION:

Correction

The Federal Register of August 4, 2020, Vol. 85, Number 150, pp. 47162-47165, FR Doc No.: 2020-16962 listed an incorrect date for the population counts sent to the President (located in the first column/paragraph on page 47163). The Census Bureau plans to deliver the population counts to the President on the originally established deadline, December 31, 2020. In addition, the same sentence used “identify” erroneously; the appropriate word is “identity”. As such, we request an amendment to the text of the Federal Register as follows:

“The CQR does not revise the population counts sent to the President by December 31, 2020, which determine the apportionment to the U.S. House of Representatives or revise the population counts relating to differential privacy, which is the new mathematical approach developed to protect the identity of individual respondents in the 2020 Census population counts.”

Dated: August 11, 2020.
Sheleen Dumas,
Department PRA Clearance Officer, Office of the Chief Information Officer, Commerce Department.

[FR Doc. 2020-17797 Filed 8-13-20; 8:45 am]

BILLING CODE 3510-07-P